DEPARTMENT OF TRANSPORTATION

Federal Aviation Administration

14 CFR Part 39

[Docket No. FAA-2023-1999; Project Identifier MCAI-2023-00697-T; Amendment 39-22638; AD 2023-25-11]

RIN 2120-AA64

Airworthiness Directives; Airbus Defense and Space S.A. (Formerly Known as Construcciones Aeronauticas, S.A.) Airplanes

AGENCY: Federal Aviation Administration (FAA), DOT.

ACTION: Final rule.

SUMMARY: The FAA is superseding Airworthiness Directive (AD) 2021-02-18, which applied to all Airbus Defense and Space S.A. Model CN-235, CN-235-100, CN-235-200, and CN-235-300 airplanes and Model C-295 airplanes. AD 2021-02-18 required repetitive inspections for cracking or broken rivets of certain left- and right-hand stringers and surrounding structure, and repair if necessary. This AD was prompted by a modification that was developed to reinforce the structure in the affected area, providing terminating action for the repetitive inspections required by AD 2021-02-18. This AD continues to require certain actions in AD 2021-02-18 and requires the new terminating action for the repetitive inspections, as specified in a European Union Aviation Safety Agency (EASA) AD, which is incorporated by reference. The FAA is issuing this AD to address the unsafe condition on these products.

DATES: This AD is effective February 7, 2024.

The Director of the Federal Register approved the incorporation by reference of a certain publication listed in this AD as of February 7, 2024.

ADDRESSES:

AD Docket: You may examine the AD docket at regulations.gov under Docket No. FAA-2023-1999; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For material incorporated by reference in this AD, contact EASA, Konrad-Adenauer-Ufer 3, 50668 Cologne, Germany; telephone +49 221 8999 000; email ADs@easa.europa.eu; website easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2023-1999.

FOR FURTHER INFORMATION CONTACT: Shahram Daneshmandi, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 to supersede AD 2021-02-18, Amendment 39-21401 (86 FR 10740, February 23, 2021) (AD 2021-02-18) (which corresponds to EASA AD 2020-0159). AD 2021-02-18 applied to all Airbus Defense and Space S.A. Model CN-235, CN-235-100, CN-235-200, and CN-235-300 airplanes and Model C-295 airplanes. AD 2021-02-18 required repetitive inspections for cracking or broken rivets of certain left- and right-hand stringers and surrounding structure, and repair if necessary. The FAA issued AD 2021-02-18 to address such cracking in the stringers, which could result in reduced structural integrity of the airplane. FAA AD 2021-02-18 explained that the requirements were “interim action,” and further rulemaking was being considered. The FAA has now determined that further rulemaking is necessary, and this AD follows from that determination.

The NPRM published in the Federal Register on October 18, 2023 (88 FR 71778). The NPRM was prompted by AD 2023-0103, dated May 23, 2023, issued by EASA, which is the Technical Agent for the Member States of the European Union (EASA AD 2023-0103) (also referred to as the MCAI). The MCAI states that since EASA AD 2020-0159 was issued, a modification was developed to reinforce the structure in the affected area, which is a terminating action for the repetitive inspections required by EASA AD 2020-0159. The MCAI does not include Model CN-235-100 airplanes since a determination was made that the only remaining airplanes in service are operated by a government military service. The FAA has determined that since these models remain on the FAA type certificate data sheet, AD action is necessary to address the unsafe condition. Therefore, this AD includes this model in the AD applicability and provides corrective actions to address the unsafe condition.

In the NPRM, the FAA proposed to continue certain actions in EASA AD 2020-0159. The NPRM also proposed to require the new terminating action for the repetitive inspections, as specified in EASA AD 2023-0103. The FAA is issuing this AD to address the unsafe condition on these products.

You may examine the MCAI in the AD docket at regulations.gov under Docket No. FAA-2023-1999.

Discussion of Final Airworthiness Directive

Comments

The FAA received no comments on the NPRM or on the determination of the cost to the public.

Conclusion

This product has been approved by the aviation authority of another country and is approved for operation in the United States. Pursuant to the FAA's bilateral agreement with this State of Design Authority, it has notified the FAA of the unsafe condition described in the MCAI referenced above. The FAA reviewed the relevant data and determined that air safety requires adopting this AD as proposed. Accordingly, the FAA is issuing this AD to address the unsafe condition on this product. Except for minor editorial changes, this AD is adopted as proposed in the NPRM. None of the changes will increase the economic burden on any operator.

Related Service Information Under 1 CFR Part 51

EASA AD 2023-0103 specifies procedures for detailed visual (DET) or high frequency eddy current inspections of the stringer P0a and P0a' at the riveted line of the attachment to the gusset and along the stringer head, in particular at the area of the last attachment of the gusset to the stringer in the midpoint between FR43 and FR44, DET inspections for fatigue cracks of the fuselage skin, along the stringers' footprint and surrounding structure and the attachment of the gusset to the FR43; DET inspections for fatigue cracks of the actuator bracket on FR43, along the radius of the vertical nerves, inner lug holes, and attachment holes of the bracket to FR43; DET inspections for fatigue cracks or broken rivets in the web and joint clips to skin and stringer of both sides of the frame between stringer P1d and P1d' (two stringers for each side from the central stringer P0a); DET inspections for fatigue cracks or broken rivets of the gussets, along the flange which joins FR43; and repair of any cracking or broken rivets.

EASA AD 2023-0103 also specifies procedures for modifying structures between frames FR43 and FR44, on stringers STGR0A and STGR0A': Replacing supports, formers, installing fittings, radius guards, and hardware attachments.

This material is reasonably available because the interested parties have access to it through their normal course of business or by the means identified in the ADDRESSES section.

Costs of Compliance

The FAA estimates that this AD affects 10 airplanes of U.S. registry. The FAA estimates the following costs to comply with this AD:

Estimated Costs for Required Actions
Labor cost | Parts cost | Cost per product | Cost on U.S. operators
Up to 17 work-hours × $85 per hour = Up to $1,445 | Up to $14,002 | Up to $15,447 | Up to $154,470.

The FAA has received no definitive data on which to base the cost estimates for the on-condition actions specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2021-02-18, Amendment 39-21401 (86 FR 10740, February 23, 2021); and

b. Adding the following new AD:

2023-25-11 Airbus Defense and Space S.A. (Formerly Known as Construcciones Aeronauticas, S.A.): Amendment 39-22638; Docket No. FAA-2023-1999; Project Identifier MCAI-2023-00697-T.

(a) Effective Date

This airworthiness directive (AD) is effective February 7, 2024.

(b) Affected ADs

This AD replaces AD 2021-02-18, Amendment 39-21401 (86 FR 10740, February 23, 2021) (AD 2021-02-18).

(c) Applicability

This AD applies all Airbus Defense and Space S.A. Model CN-235, CN-235-100, CN-235-200, and CN-235-300 airplanes and Model C-295 airplanes, certificated in any category.

(d) Subject

Air Transport Association (ATA) of America Code 53, Fuselage.

(e) Unsafe Condition

This AD was prompted by cracks found on certain left- and right-hand stringers in the area of frame (FR) 43 of the fuselage. The FAA is issuing this AD to address such cracking in the stringers, which could result in reduced structural integrity of the airplane.

(f) Compliance

Comply with this AD within the compliance times specified, unless already done.

(g) Requirements

Except as specified in paragraphs (h) and (i) of this AD: Comply with all required actions and compliance times specified in, and in accordance with, EASA AD 2023-0103, dated May 23, 2023 (EASA AD 2023-0103).

(h) Exceptions to EASA AD 2023-0103

(1) Where EASA AD 2023-0103 refers to its effective date, this AD requires using the effective date of this AD.

(2) This AD does not adopt the “Remarks” section of EASA AD 2023-0103.

(3) Where EASA AD 2023-0103 specifies “The SB: Airbus DS Service Bulletin (SB) SB235-53-0070C (for CN-235, CN-235-200 and CN-235-300 aeroplanes) and SB295-53-0025C (for C-295 aeroplanes), as applicable,” for this AD replace those words with “The SB: Airbus DS Service Bulletin (SB) SB235-53-0070C (for CN-235, CN-235-200 and CN-235-300 aeroplanes), SB235-53-0070M (for CN-235-100 aeroplanes), and SB295-53-0025C (for C-295 aeroplanes), as applicable.”

(4) Where EASA AD 2023-0103 specifies “Groups: Group 1 aeroplanes are CN-235, CN-235-200 aeroplanes. Group 2 aeroplanes are CN-235-300 and C-295 aeroplanes,” for this AD replace those words with “Groups: Group 1 aeroplanes are CN-235, CN-235-100, and CN-235-200 aeroplanes. Group 2 aeroplanes are CN-235-300 and C-295 aeroplanes.”

(5) Where the column header of Table 1 of EASA AD 2023-0103 is titled “Accumulated Flight Hours (FH) and Flight Cycles (FC)”, for this AD replace those words with “Accumulated Flight Hours (FH) and Flight Cycles (FC), as of March 30, 2021 (the effective date of AD 2021-02-18).”

(6) Where EASA AD 2023-0103 specifies a compliance time of “During the next A-check, or within 300 FH after 30 July 2020 [the effective date of EASA AD 2020-0159], whichever occurs later,” for this AD replace those words with “Within 300 FH after March 30, 2021 (the effective date of AD 2021-02-18).”

(7) Where EASA AD 2023-0103 specifies a compliance time of “Within 50 FH or 50 FC, whichever occurs first after 30 July 2020 [the effective date of EASA AD 2020-0159],” for this AD replace those words with “Within 50 FH or 50 FC, whichever occurs first after March 30, 2021 (the effective date of AD 2021-02-18).”

(8) Where paragraph (2) of EASA AD 2023-0103 specifies to “contact Airbus DS for approved instructions and accomplish those instructions accordingly” if discrepancies are detected, for this AD if any cracking is detected, the cracking must be repaired before further flight using a method approved by the Manager, International Validation Branch, FAA; or EASA; or Airbus Defense and Space S.A.'s EASA Design Organization Approval (DOA). If approved by the DOA, the approval must include the DOA-authorized signature.

(i) No Reporting Requirement

Although the service information referenced in EASA AD 2023-0103 specifies to submit certain information to the manufacturer, this AD does not include that requirement.

(j) Additional AD Provisions

The following provisions also apply to this AD:

(1) Alternative Methods of Compliance (AMOCs): The Manager, International Validation Branch, FAA, has the authority to approve AMOCs for this AD, if requested using the procedures found in 14 CFR 39.19. In accordance with 14 CFR 39.19, send your request to your principal inspector or responsible Flight Standards Office, as appropriate. If sending information directly to the International Validation Branch, send it to the attention of the person identified in paragraph (k) of this AD. Information may be emailed to: 9-AVS-AIR-730-AMOC@faa.gov.

(2) Contacting the Manufacturer: For any requirement in this AD to obtain instructions from a manufacturer, the instructions must be accomplished using a method approved by the Manager, International Validation Branch, FAA; or EASA; or Airbus Defense and Space S.A.'s EASA DOA. If approved by the DOA, the approval must include the DOA-authorized signature.

(3) Required for Compliance (RC): Except as required by paragraph (j)(2) of this AD, if any service information referenced in EASA AD 2023-0103 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(k) Additional Information

For more information about this AD, contact Shahram Daneshmandi, Aviation Safety Engineer, FAA, 1600 Stewart Avenue, Suite 410, Westbury, NY 11590; telephone 516-228-7300; email 9-avs-nyaco-cos@faa.gov.

(l) Material Incorporated by Reference

(1) The Director of the Federal Register approved the incorporation by reference of the service information listed in this paragraph under 5 U.S.C. 552(a) and 1 CFR part 51.

(2) You must use this service information as applicable to do the actions required by this AD, unless this AD specifies otherwise.

(i) European Union Aviation Safety Agency (EASA) AD 2023-0103, dated May 23, 2023.

(ii) [Reserved]

(3) For EASA AD 2023-0103, contact EASA, Konrad-Adenauer-Ufer 3, 50668 Cologne, Germany; telephone +49 221 8999 000; email ADs@easa.europa.eu; website easa.europa.eu. You may find this EASA AD on the EASA website at ad.easa.europa.eu.

(4) You may view this service information at the FAA, Airworthiness Products Section, Operational Safety Branch, 2200 South 216th St., Des Moines, WA. For information on the availability of this material at the FAA, call 206-231-3195.

(5) You may view this material at the National Archives and Records Administration (NARA). For information on the availability of this material at NARA, visit www.archives.gov/federal-register/cfr/ibr-locations or email fr.inspection@nara.gov.

Issued on December 14, 2023.
Victor Wicklund,
Deputy Director, Compliance & Airworthiness Division, Aircraft Certification Service.

[FR Doc. 2023-28846 Filed 1-2-24; 8:45 am]

BILLING CODE 4910-13-P